DEPARTMENT OF ENERGY

Federal Energy Regulatory Commission

[Docket No. CP07-32-000]

Gulf South Pipeline Company, LP; Notice of Application

December 21, 2006.

Take notice that on December 11, 2006, Gulf South Pipeline Company, LP (Gulf South), 20 East Greenway Plaza, Houston, Texas 77046, filed in Docket No. CP07-32-000, an application pursuant to sections and 7(c) of the Natural Gas Act (NGA) to authorize Gulf South to site, construct, and operate facilities consisting of 111 miles of pipeline, 45,080 horsepower of compression, interconnecting facilities and appurtenant facilities (Southeast Expansion Project), all as more fully set forth in the application which is on file with the Commission and open to public inspection. Additionally, beginning October 1, 2008, Gulf South expects to lease additional capacity on the Southeast Expansion Project to Boardwalk Pipeline Partners, LP's Gulf Crossing Project which is currently in the Commission's pre-filing process in Docket No. PF07-1-000. The instant filing may be also viewed on the Web at http://www.ferc.gov using the “eLibrary” link. Enter the docket number excluding the last three digits in the docket number field to access the document. For assistance, call (866) 208-3676 or TTY, (202) 502-8659.

Any questions regarding this application may be directed to J. Kyle Stephens, Director of Certificates, 20 East Greenway Plaza, Houston, Texas 77046 or by telephone at 713-544-7309 or telecopy to 713-544-3540.

On June 20, 2006, the Commission staff granted Gulf South's request to utilize the Commission's Pre-Filing Process for its Southeast Expansion Project and assigned Docket No. PF06-31-000 to staff activities involved therein. Now, as of the filing of Gulf South's application on December 11, 2006, the Commission's Pre-Filing Process for these projects has ended. From this time forward, Gulf South's proceeding will be conducted in Docket No. CP07-32-000, as noted in the caption of this Notice.

There are two ways to become involved in the Commission's review of this project. First, any person wishing to obtain legal status by becoming a party to the proceedings for this project should, on or before the below listed comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Motions to intervene, protests and comments may be filed electronically via the internet in lieu of paper; see, 18 CFR 385.2001(a)(1)(iii) and the instructions on the Commission's Web site under the “e-Filing” link. The Commission strongly encourages electronic filings.

Comment Date: January 11, 2007.

Magalie R. Salas,
Secretary.

[FR Doc. E6-22354 Filed 12-28-06; 8:45 am]

BILLING CODE 6717-01-P